DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community may be obtained by contacting the office where maps are available for inspection as indicated on the table below.

ADDRESSES: The final BFEs for Imperial County are available for inspection at Imperial County Planning & Development Services Department, 801 West Main Street, El Centro, California 92243.

FOR FURTHER INFORMATION CONTACT: William R. Blanton, Jr., Engineering Management Branch, Mitigation Directorate, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. In proposed rule FR Doc. E7-18260 published on March 27, 2006 (71 FR 15115-15116), several modified elevations were not depicted as being located below sea level. The symbology for these elevations has been corrected and is shown in the table below. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NAVD) #Depth in feet above ground (−) Feet below sea level modified | Communities affected
Imperial County, California and Incorporated Areas
Docket No.: FEMA-B-7456
Amerosa Wash | Approximately 152 feet above confluence with Anza Ditch | *(−)50 | Imperial County (Unincorporated Areas).
| Approximately 2.75 miles above confluence with Anza Ditch | *153
Anza Ditch | Approximately 1694 feet downstream of Marina Drive | *(−)224 | Imperial County (Unincorporated Areas).
| Approximately 3.4 miles upstream of State Route 86 | *136
Arroyo Salada | Approximately 630 feet above confluence with Salton Sea | *(−)223 | Imperial County (Unincorporated Areas).
| Approximately 2.36 miles upstream of State Route 86 | *(−)72
Colorado River | Approximately 10.6 miles downstream of confluence with Gila River | *121 | Imperial County (Unincorporated Areas).
| Approximately 1.65 miles upstream of Neighbors Boulevard | *243
Coolidge Springs Ditch | Approximately 447 feet upstream of confluence with Salton Sea | *(−)225 | Imperial County (Unincorporated Areas).
| Approximately 0.69 mile upstream of confluence with Coolidge Tributary | *(−)14
Coolidge Tributary | Approximately 272 feet above confluence with Coolidge Springs Ditch | *(−)192 | Imperial County (Unincorporated Areas).
| Approximately 0.81 mile above confluence with Coolidge Springs Ditch | *(−)97
Coral Wash | Approximately 314 feet above confluence with Palm Wash | *(−)187 | Imperial County (Unincorporated Areas).
| Approximately 2.79 miles upstream of State Route 86 | *72
Iberia Wash | Approximately 296 feet above confluence with Salton Sea | *(−)222 | Imperial County (Unincorporated Areas).
| Approximately 1.89 miles upstream of State Route 86 | *104
Incienso Ditch | Approximately 450 feet above confluence with Salton Sea | *(−)221 | Imperial County (Unincorporated Areas).
| Approximately 1.86 miles upstream of State Route 86 | *64
Gravel Wash | Approximately 439 feet above confluence with Salton Sea | *(−)222 | Imperial County (Unincorporated Areas).
| Approximately 2.32 miles upstream of State Route 86 | *51
Palm Wash | Approximately 46 feet above confluence with Salton Sea | *(−)224 | Imperial County (Unincorporated Areas).
| Approximately 3.86 mile upstream of State Route 86 | *150
Romney Ditch | Approximately 1382 feet downstream of State Route 86 | *(−)211 | Imperial County (Unincorporated Areas).
| Approximately 1517 feet upstream of State Route 86 | *(−)157
Shoreline Ditch | Approximately 250 feet downstream of Thomas Avenue | *(−)225 | Imperial County (Unincorporated Areas).
| Approximately 0.50 mile upstream of Coolidge Springs Road | *(−)94
Surprise Wash | Approximately 656 feet above confluence with Tule Wash | *(−)187 | Imperial County (Unincorporated Areas).
| Approximately 1.2 miles upstream of State Route 86 | *(−)89
Surprise Wash Tributary | Approximately 500 feet above confluence with Surprise Wash | *(−)151 | Imperial County (Unincorporated Areas).
| Approximately 0.83 mile upstream of State Route 86 | *(−)110
Surprise Wash Diversion | Approximately 1610 feet above confluence with Arroyo Salada | *(−)102 | Imperial County (Unincorporated Areas).
| Approximately 2.24 miles above confluence with Arroyo Salada | *(−)37
Tesla Wash | Approximately 386 feet above confluence with Salton Sea | *(−)222 | Imperial County (Unincorporated Areas).
| Approximately 1.61 miles upstream of State Route 86 | *39
Tortif Ditch | Approximately 0.87 mile downstream of State Route 86 | *(−)219 | Imperial County (Unincorporated Areas).
| Approximately 1.92 miles upstream of State Route 86 | *78
Verbena Wash | Approximately 450 feet above confluence with Virgo Ditch | *(−)186 | Imperial County (Unincorporated Areas).
| Approximately 1.17 miles upstream of State Route 86 | *2
Virgo Ditch | Approximately 641 feet above confluence with Salton Sea | *(−)222 | Imperial County (Unincorporated Areas).
| Approximately 2.14 miles upstream of State Route 86 | *95
Zenas Wash | Approximately 637 feet above confluence with Arroyo Salada | *(−)179 | Imperial County (Unincorporated Areas).
| Approximately 0.59 mile upstream of State Route 86 | *(−)88
Arroyo Salada | Shallow Flooding—Approximately 1.38 miles above confluence with Salton Sea to Salton Sea | #1 | Imperial County (Unincorporated Areas).
Calyx Ditch | Shallow Flooding—State Route 86 to confluence with Salton Sea | #1 | Imperial County (Unincorporated Areas).
| Shallow Flooding—150 feet upstream of State Route 86 to State Route 86 | #2
Farmosa Ditch | Shallow Flooding—State Route 86 to confluence with Salton Sea | #1 | Imperial County (Unincorporated Areas).
Parosa Ditch | Shallow Flooding—State Route 86 to confluence with Salton Sea | #1 | Imperial County (Unincorporated Areas).
| Shallow Flooding—150 feet upstream of State Route 86 to State Route 86 | #2
Salton Sea | West shoreline of Salton Sea from approximately 0.78 miles southeast of confluence with Arroyo Salada to approximately 0.66 miles north of confluence with Shoreline Ditch | *(−)224 | Imperial County (Unincorporated Areas).
Tonalee Ditch | Shallow Flooding—1,000 feet upstream of State Route 86 to confluence with Salton Sea | #1 | Imperial County (Unincorporated Areas).
* North American Vertical Datum.
# Depth in feet above ground.
(−) Feet below sea level.
ADDRESSES
Imperial County (Unincorporated Areas)
Maps available for inspection at: Imperial County Planning & Development Services Department; 801 West Main Street, El Centro, California 92243

(Catalog of Federal Domestic Assistance No. 97.022, “Flood Insurance.”)

Dated: April 29, 2008.
David I. Maurstad,
Federal Insurance Administrator of the National Flood Insurance Program, Department of Homeland Security, Federal Emergency Management Agency.

[FR Doc. E8-10140 Filed 5-6-08; 8:45 am]

BILLING CODE 9110-12-P